OFFICE OF THE UNITED STATES TRADE REPRESENTATIVE

Determination Under the Caribbean Basin Trade Partnership Act

AGENCY: Office of the United States Trade Representative.

ACTION: Notice.

SUMMARY: The United States Trade Representative has determined that Saint Lucia and Barbados are making substantial progress toward implementing and following the customs procedures required by the Caribbean Basin Trade Partnership Act and, therefore, imports of eligible products from Saint Lucia and Barbados qualify for the trade benefits provided under the Act.

EFFECTIVE DATE: June 1, 2001.

FOR FURTHER INFORMATION CONTACT: Christopher Wilson, Director for Central America and the Caribbean, Office of the United States Trade Representative, (202) 395-5190.

SUPPLEMENTARY INFORMATION: The Caribbean Basin Trade Partnership Act (Title II of the Trade and Development Act of 2000, Pub. L. No. 106-200) (CBTPA) amended the Caribbean Basin Economic Recovery Act (CBERA) to provide preferential tariff treatment for imports of certain products of beneficiary Caribbean and Central American countries. The trade benefits provided by the CBTPA are available to imports of eligible products from countries that the President designates as “CBTPA beneficiary countries,” provided that these countries have implemented and follow, or are making substantial progress toward implementing and following, certain customs procedures that assist the Customs Service in verifying the origin of the products.

In Proclamation 7351 of October 2, 2000, the President designated all 24 current beneficiaries under the CBERA as “CBTPA beneficiary countries.” Proclamation 7351 delegated to the United States Trade Representative (USTR) the authority to determine whether the designated CBTPA beneficiary countries have implemented and follow, or are making substantial progress toward implementing and following, the customs procedures required by the CBTPA. The President directed the USTR to announce any such determinations in the Federal Register and to implement them through modifications of the Harmonized Tariff Schedule of the United States (HTS).

Based on information and commitments provided by the Governments of Saint Lucia and Barbados, I have determined that Saint Lucia and Barbados are making substantial progress toward implementing and following the customs procedures required by the CBTPA. Accordingly, pursuant to the authority vested in the USTR by Proclamation 7351, general note 17(a) to the HTS, U.S. note 7(b) to subchapter II of chapter 98 of the HTS, and U.S. note 1 to subchapter XX of chapter 98 of the HTS are each modified by inserting in alphabetical sequence in the list of eligible CBTPA beneficiary countries the names “Barbados” and “Saint Lucia”. The foregoing modifications to the HTS are effective with respect to articles entered, or withdrawn from warehouse for consumption, on or after the effective date of this notice.

Robert B. Zoellick,
United States Trade Representative.

[FR Doc. 01-14582 Filed 6-8-01; 8:45 am]

BILLING CODE 3190-01-M